DEPARTMENT OF HEALTH AND HUMAN SERVICES

Agency for Healthcare Research and Quality

Agency Information Collection Activities; Proposed Collection: Comment Request

AGENCY: Agency for Healthcare Research and Quality, Department of Health and Human Services.

ACTION: Notice of proposed information collection.

SUMMARY: This notice announces the intention of the Agency for Healthcare Research and Quality (AHRQ) to request the Office of Management and Budget (OMB) to allow the proposed information collection project “Continuance of the Medical Expenditure Panel Survey—Household and Medical Provider Component through 2009”. In accordance with the Paperwork Reduction Act of 1995, Public Law 104-13 (44 U.S.C. 3506(c)(2)(A)), AHRQ invites the public to comment on this proposed collection.

DATES: Comments on this notice must be received by August 1, 2006.

ADDRESSES: Written comments should be submitted to: Doris Lefkowitz, AHRQ, Reports Clearance Officer, 540 Gaither Road, Suite 5036, Rockville, MD 20850. Copies of the proposed collection plans, data collection instruments and specific details of the estimated burden can be obtained from the AHRQ Reports Clearance Officer.

FOR FURTHER INFORMATION CONTACT: Doris Lefkowitz, AHRQ, Reports Clearance Officer, (301) 427-1477.

SUPPLEMENTARY INFORMATION:

Proposed Project

“Continuance of the Medical Expenditure Panel Survey—Household and Medical Provider Component through 2009”

AHRQ has conducted an annual panel survey of U.S. households and their associated medical providers since 1996, through the Medical Expenditures Panel Survey (MEPS)—Household Component (MEPS-HC) and Medical Provider Component (MEPS-MPC). This clearance requests continuance of this annual survey through 2009. The MEPS is jointly sponsored by AHRQ and the National Center for Health Statistics (NCHS). The MEPS is conducted using a sample of households that responded to a prior year's National Health Interview Survey (NHIS) which is sponsored by the NCHS. The NHIS surveys approximately 40,000 households (110,000 persons) each year.

The NHIS is used as a sampling frame for the MEPS and other surveys to increase efficiency of data collection efforts within the Department of Health and Human Services.

Data to be collected from each household is completed through the MEPS-HC and includes detailed information on demographics, health conditions, health status, use of health care services, charges and payments for medical care, medications, and employment and health insurance. Data to be collected from medical providers including hospitals, physicians, and pharmacies is completed through the MEPS-MPC which supplements and verifies information provided by the households. With the written permission of household members of the MEPS-HC, the MEPS-MPC collects actual stages of services, diagnosis and service codes, as well as charges and payments for services. Subject to AHRQ and NCHS confidentiality statutes, data will be made available through Agency publications, journals, public use files and web-based statistical tools. the data are intended for multiple purposes including:

• Generating national estimates of individual and family health care use and expenditures, private and public health insurance coverage, and the availability, cost and scope of private health benefits among Americans.

• Examining the quality of care for Americans, especially those with chronic conditions.

• Examining access to and costs of health care for common diseases and conditions, health care quality, prescribed medications and other health issues.

Statisticians and researchers will use these data to make important generalizations about the civilian non-institutionalized population of the United States and to conduct research in which the family is the unit of analysis.

Data Confidentiality

The confidentiality of MEPS data is protected under the NCHS and AHRQ confidentiality statutes, found in sections 934(c) and 308(d) of the Public Health Service Act (42 U.S.C. 299c-3(c) and 42 U.S.C. 424m(d)).

Methods of Collection

AHRQ introduces the study to respondents of the MEPS-HC through an advance mailing. This first contact will provide the respondent with information on the importance and uses of the data. Once consent for participation is established, AHRQ, through its contractors will conduct five, in person, interviews over a 30 month time period with each participating household to obtain information to support two years of national estimates. Computer-assisted personal interviewing will be used. In uncommon instances, the identical interview may be administered over the phone. Respondents may also be asked to complete one or more short, self-administered questionnaires over the course of the study.

The MEPS-MPC is predominantly completed by telephone and mail. However, a substantial portion of the pharmacy providers elect to submit their responses electronically.

MEPS.-HC Annual Data Collection Estimated Burden
Activity | Unit | Number of responses | Hours per response | Burden in hours
Jan-July:
07 panel interview | Households | 7,900 | 2.0 | 15,800
06 panel interview | Households | 7,650 | 1.5 | 11,475
06 panel DCS | Persons 18+ with diabetes | 800 | 0.1 | 80
05 panel interview | Households | 7,400 | 1.5 | 11,100
05 panel DCS | Persons 18+ with diabetes | 750 | 0.1 | 75
Reinterview | Responses | 2,065 | 0.1 | 207
Aug-Dec:
07 panel interview | Households | 7,700 | 1.5 | 11,550
07 panel SAQ | Persons 18+ | 6,950 × 1.8 | 0.2 | 2,502
06 panel interview | Households | 7,550 | 1.5 | 11,325
06 panel SAQ | Persons 18+ | 6,800 × 1.8 | 0.2 | 2,448
Reinterview | Responses | 1,373 | 0.1 | 138
Total |  |  |  | 66,700

MEPS.—MPC Annual Data Collection Estimated Burden—Pair Level Calculation
Type | Number of patient/provider pairs | Events per pair | Total events | Response time/event (minutes) | Burden in hours
Hospitals | 10,500 | 3.2 | 33,600 | 5 | 2800
HMO | 450 | 5.0 | 2250 | 5 | 187
SBD | 15,500 | 1.4 | 21,700 | 3 | 1085
Home health | 440 | 5.8 | 2552 | 5 | 212
OBDS | 23,210 | 3.5 | 81,235 | 5 | 6770
Pharmacy | 14,410 | 10.3 | 148,423 | 3 | 7421
Institutions | 100 | 1.2 | 120 | 5 | 10
Total |  |  |  |  | 18,485

MEPS.—Summary Data Collection Burden 2007-2009
| 2007 | 2008 | 2009 | Total
Unit Type:
Households | 66,700 | 66,700 | 66,700 | 200,100
Medical Provider | 18,485 | 18,485 | 18,485 | 55,455
Total | 85,185 | 85,185 | 85,185 | 255,555

Request for Comments

In accordance with the above cited legislation, comments on AHRQ's information collection are requested with regard to any of the following: (1) Whether the proposed collection of information is necessary for the proper performance of functions of AHRQ, including whether the information will have practical utility; (b) the accuracy of AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public records.

Dated: May 25, 2006.
Carolyn M. Clancy,
Director.

[FR Doc. 06-5056 Filed 6-1-06; 8:45 am]

BILLING CODE 4160-90-M